DEPARTMENT OF JUSTICE

Antitrust Division

Notice Pursuant to the National Cooperative Research and Production Act of 1993—APA—The Engineered Wood Association

Notice is hereby given that, on April 4, 2024, pursuant to section 6(a) of the National Cooperative Research and Production Act of 1993, 15 U.S.C. 4301 et seq. (“the Act”), APA—The Engineered Wood Association (“APA—The Engineered Wood Association”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: APA—The Engineered Wood Association, Tacoma, WA. The nature and scope of APA—The Engineered Wood Association's standards development activities are: the development, maintenance, and updating of standards for wood and engineered wood products including but not limited to softwood plywood, oriented strand board (OSB), wood composite panels, plywood siding, structural glued laminated timber (glulam), wood I-joists, structural composite lumber, rim board, and cross-laminated timber. Standards activities also include serving as the sponsor for the standing committees of U.S. Voluntary Product Standard PS 1, Structural Plywood and Voluntary Product Standard PS 2, Performance Standard for Wood Structural Panels.

Suzanne Morris,
Deputy Director Civil Enforcement Operations, Antitrust Division.

[FR Doc. 2024-13616 Filed 6-20-24; 8:45 am]

BILLING CODE P